FEDERAL ELECTION COMMISSION

Sunshine Act Notices

Date & Time: Thursday, August 21, 2008, at 10 a.m.

Place: 999 E Street, NW., Washington, DC (Ninth Floor).

Status: This meeting will be open to the public.

Items to be Discussed:

Correction and Approval of Minutes.

Advisory Opinion 2008-04: Chris Dodd for President, Inc. by Marc E. Elias, Esquire, and Brian G. Svoboda, Esquire.

Advisory Opinion 2008-06: Democratic Party of Virginia by Marc E. Elias, Esquire, and Caroline P. Goodson, Esquire.

Advisory Opinion 2008-07: Senator David Vitter and Vitter for U.S. Senate by Jan Witold Baran, Esquire, and Caleb P. Burns, Esquire.

Advisory Opinion 2008-09: Senator Frank Lautenberg and Lautenberg for Senate by Marc Elias, Esquire.

John McCain 2008, Inc.—Presidential Primary Matching Payment Program (LRA 731).

Management and Administrative Matters.

PERSON TO CONTACT FOR INFORMATION: Robert Biersack, Press Officer, Telephone: (202) 694-1220.

Individuals who plan to attend and require special assistance, such as sign language interpretation or other reasonable accommodations, should contact Mary Dove, Commission Secretary, at (202) 694-1040, at least 72 hours prior to the hearing date.

Mary W. Dove,
Secretary of the Commission.

[FR Doc. E8-19126 Filed 8-19-08; 8:45 am]

BILLING CODE 6715-01-M